DEPARTMENT OF HEALTH AND HUMAN SERVICES

Substance Abuse and Mental Health Services Administration

Center for Substance Abuse Prevention; Notice of Meeting

Pursuant to Public Law 92-463, notice is hereby given for the meeting of the Substance Abuse and Mental Health Services Administration's (SAMHSA) Center for Substance Abuse Prevention National Advisory Council (CSAP NAC) on August 8, 2012.

A portion of the meeting will be open and will include discussion of the Affordable Care Act, as well as CSAP program and budget developments.

The meeting will also include the review, discussion, and evaluation of grant applications. Therefore, a portion of the meeting will be closed to the public as determined by the Administrator, SAMHSA, and in accordance with Title 5 U.S.C. 552b(c) and 5 U.S.C. App. 2, Section 10(d).

The meeting will be held online via Live Meeting. Interested persons may present data, information, or views, orally or in writing, on issues pending before the committee. Written submissions should be forwarded to the contact person on or before one week prior to the meeting. Oral presentations from the public will be scheduled at the conclusion of the meeting. Individuals interested in making oral presentations are encouraged to notify the contact on or before one week prior to the meeting. Five minutes will be allotted for each presentation.

Substantive program information may be obtained after the meeting by accessing the SAMHSA Committee Web site, http://nac.samhsa.gov/, or by contacting Matthew J. Aumen.

Committee Name: Substance Abuse and Mental Health Services, Administration Center for Substance Abuse Prevention, National Advisory Council.

Date/Time/Type: August 8, 2012 from 10 a.m. to 3 p.m. EDT: (OPEN), August 8, 2012 from 3 p.m. to 4:30 p.m. EDT: (CLOSED).

Place: Live meeting webcast: https://www.mymeetings.com/nc/join.php?i=PW8343833&p=4126317&t=c, Pass code: 4126317.

Contact: Matthew J. Aumen, Designated Federal Officer, SAMHSA CSAP NAC, 1 Choke Cherry Road, Rockville, Maryland 20857, Telephone: 240-276-2419, Fax: 240-276-2430 and Email: matthew.aumen@samhsa.hhs.gov.

Cathy J. Friedman,
Public Health Analyst, Substance Abuse and Mental Health, Services Administration.

[FR Doc. 2012-18014 Filed 7-23-12; 8:45 am]

BILLING CODE 4162-20-P